DEPARTMENT OF HOUSING AND URBAN DEVELOPMENT

[Docket No. FR-5687-N-21]

Notice of Proposed Information Collection; Comment Request: Section 811 Supportive Housing for Persons With Disabilities Capital Advance Application Submission Requirements

AGENCY: Office of the Assistant Secretary for Housing, HUD.

ACTION: Notice.

SUMMARY: The proposed information collection requirement described below will be submitted to the Office of Management and Budget (OMB) for review, as required by the Paperwork Reduction Act. HUD is soliciting public comments on the subject proposal.

DATES: Comments Due Date: June 21, 2013.

ADDRESSES: Interested persons are invited to submit comments regarding this proposal. Comments should refer to the proposal by name and/or OMB Control Number and should be sent to: Reports Liaison Officer, Department of Housing and Urban Development, 451 7th Street SW., L'Enfant Plaza Building, Room 9120, Washington, DC 20410; or the number for the Federal Relay Service (1-800-877-8339).

FOR FURTHER INFORMATION CONTACT: Catherine M. Brennan, Director, Office of Housing Assistance and Grant Administration, Department of Housing and Urban Development, 451 7th Street SW., Washington, DC 20410, telephone (202) 708-3000 (this is not a toll free number) for copies of the proposed forms and other available information.

SUPPLEMENTARY INFORMATION: HUD is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Section 811 Supportive Housing for Persons with Disabilities, Application Submission Requirements.

OMB Control Number, if applicable: 2502-0462.

Description of the need for the information and proposed use: The collection of this information is necessary to the Department to assist HUD in determining applicant eligibility and ability to develop housing for persons with disabilities within statutory and program criteria. A thorough evaluation of an applicant's submission is necessary to protect the government's financial interest.

Agency form numbers, if applicable: HUD-92016-CA, HUD-92041, HUD-92042, HUD-92043, HUD-2880, HUD-2991, HUD-2990, HUD-96010, HUD-96011, HUD-92530; Standard grant forms: SF-424, SF-424-Supplemental, SF LLL.

Estimation of the total numbers of hours needed to prepare the information collection including number of respondents, frequency of response, and hours of response: The number of burden hours is 12,859. The number of respondents is 140, the number of responses is 140, the frequency of response is on occasion, and the burden hour per response is 91.85.

Status of the proposed information collection: Extension of a currently approved collection.

Authority: The Paperwork Reduction Act of 1995, 44 U.S.C., Chapter 35, as amended.

Dated: April 16, 2013.
Laura M. Marin,
Acting General Assistant Secretary for Housing-Acting General Deputy Federal Housing Commissioner.

[FR Doc. 2013-09388 Filed 4-19-13; 8:45 am]

BILLING CODE 4210-67-P